DEPARTMENT OF COMMERCE

Census Bureau

Agency Information Collection Activities; Submission to the Office of Management and Budget (OMB) for Review and Approval; Comment Request; Military Panel Topical 2 and Topical 3 Operations

On August 31, 2023, the Department of Commerce received clearance from the Office of Management and Budget (OMB) in accordance with the Paperwork Reduction Act of 1995 to conduct the Census Household Panel recruitment and first topical operation (OMB No. 0607-1027, Exp. 8/31/26). The Military Panel is designed to ensure availability of frequent data collection for nationwide estimates on a variety of topics for active-duty service members and spouses of active-duty service members.

Content for Topical 2 will consist of topics including housing, family readiness, voting, and harassment and discrimination. Data will be collected in July. Content for Topical 3 will consist of topics including finances, transition assistance, and combatting trafficking. Data will be collected in September. The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 3, 2023, during a 30-day comment period. This notice allows for an additional 30 days for public comments.

Agency: U.S. Census Bureau, Department of Commerce.

Title: Military Panel.

OMB Control Number: 0607-1027.

Form Number(s): Not yet determined.

Type of Request: Request for a Revision of a Currently Approved Collection.

Number of Respondents: 1,141 panel members.

Average Hours per Response: 2 hours per year (20 minutes for bi-monthly collection).

Burden Hours: 1,596.

Needs and Uses: The Census Military Panel is a national survey panel by the U.S. Census Bureau (Census) and the U.S. Department of Defense (DOD) consisting of active-duty service members and spouses of active-duty service members that have agreed to be contacted and invited to participate. The ultimate goal for the Military Panel project is to recruit at least 2,000 panel members (1,000 service members and 1,000 spouses) randomly selected directly from military administrative data.

Invitations to complete the bi-monthly surveys will be sent via email and SMS messages and questionnaires will be mainly internet self-response. The Panel will maintain representativeness by allowing respondents who do not use the internet to respond via computer-assisted telephone interviewing (CATI). All panelists will receive an incentive for each complete questionnaire. Periodic replenishment samples will maintain representativeness and panelists will be replaced after a period of three years.

Affected Public: Individuals or Households.

Frequency: Bi-monthly.

Respondent's Obligation: Voluntary.

Legal Authority: 10 U.S.C. 1782; Title 13 U.S.C. 8(b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection or the OMB Control Number 0607-1027.

Sheleen Dumas,
Department PRA Clearance Officer, Office of the Under Secretary for Economic Affairs, Commerce Department.

[FR Doc. 2024-12447 Filed 6-5-24; 8:45 am]

BILLING CODE 3510-07-P